DEPARTMENT OF ENERGY

Federal Energy Regulatory Commission

[Docket No. RP02-408-003]

Sabine Pipe Line LLC; Notice of Compliance Filing

December 19, 2002.

Take notice that on December 17, 2002, Sabine Pipe Line LLC (Sabine) tendered for filing as part of its FERC Gas Tariff, Original Volume No. 1, the following tariff sheets, to become effective October 1, 2002.

Second Sub First Revised Sheet No. 204A

Third Sub Third Revised Sheet No. 297

Sabine asserts that the purpose of this filing is to correct two typographical errors found on the sheets previously filed to comply with Commission's order issued December 3, 2002, in Docket No. RP02-408-001.

Any person desiring to protest said filing should file a protest with the Federal Energy Regulatory Commission, 888 First Street, NE., Washington, DC 20426, in accordance with Section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: December 30, 2002.

Linwood A. Watson, Jr.,
Deputy Secretary.

[FR Doc. 02-32555 Filed 12-24-02; 8:45 am]

BILLING CODE 6717-01-P